DEPARTMENT OF THE INTERIOR

Bureau of Indian Affairs

[123A2100DD/AAK30030000/A0T501010.000000]

Renewal of Agency Information Collection for Indian Self-Determination and Education Assistance Contracts

AGENCIES: Bureau of Indian Affairs, Interior.

ACTION: Notice of submission to OMB.

SUMMARY: In compliance with Section 3507(a)(1)(D) of the Paperwork Reduction Act of 1995, the Bureau of Indian Affairs (BIA) is submitting to the Office of Management and Budget (OMB) a request for renewal for the collection of information titled, “Indian Self-Determination and Education Assistance Contracts, 25 CFR part 900,” OMB Control Number 1076-0136. This information collection expires May 31, 2013.

DATES: Interested persons are invited to submit comments on or before June 28, 2013.

ADDRESSES: You may submit comments on the information collection to the Desk Officer for the Department of the Interior at the Office of Management and Budget, by facsimile to (202) 395-5806 or you may send an email to: OIRA_Submission@omb.eop.gov.

Please send a copy of your comments to Terrence Parks, Chief, Division of Self-Determination, BIA Office of Indian Services, 1849 C Street NW., Mail Stop 4513, Washington, DC 20240; send via facsimile to (202) 208-5113; or send via email to Terrence.Parks@bia.gov.

FOR FURTHER INFORMATION CONTACT: Terrence Parks, (202) 513-7625.

You may review the information collection request online at http://www.reginfo.gov. Follow the instructions to review Department of the Interior collections under review by OMB.

SUPPLEMENTARY INFORMATION:

I. Abstract

The BIA is seeking renewal of the approval for information collections conducted under their joint regulations, 25 CFR part 900, implementing the Indian Self-Determination and Education Assistance Act (ISDEAA) as amended (25 U.S.C. 450 et seq.). The Act requires the joint rule to govern how contracts are awarded to Indian tribes, thereby avoiding the unnecessary burden or confusion associated with two sets of rules and information collection requirements. See 25 U.S.C. 450k(a)(2)(A)(ii). The joint regulations at 25 CFR part 900 was developed through negotiated rulemaking with tribes in 1996 and governs, among other things, what must be included in a tribe's initial ISDEAA contract proposal to the BIA. A response is required to obtain and retain a benefit.

The information requirements for this joint rule represent significant differences from other agencies in several respects. Under the Act, the Secretaries of Health and Human Services and the Interior are directed to enter into self-determination contracts with tribes upon request, unless specific declination criteria apply, and, generally, tribes may renew these contracts annually, whereas other agencies provide grants on a discretionary or competitive basis. Both the BIA and IHS award contracts for multiple programs whereas other agencies usually award single grants to tribes. This information collection addresses only the information that BIA collects under the joint rule.

The BIA uses the information collected to determine applicant eligibility, evaluate applicant capabilities, protect the service population, safeguard Federal funds and other resources, and permit the Federal agencies to administer and evaluate contract programs. Tribal governments or tribal organizations provide the information by submitting contract proposals, and related information, to the appropriate Federal agency, as required under the ISDEAA. No third party notification or public disclosure burden is associated with this collection. IHS estimates are not included in this submission as they will provide their estimates to OMB at a later date. The revisions included in this renewal include two information collection items that were not previously included.

II. Request for Comments

The BIA requests your comments on this collection concerning: (a) The necessity of this information collection for the proper performance of the functions of the agency, including whether the information will have practical utility; (b) the accuracy of the agency's estimate of the burden (hours and cost) of the collection of information, including the validity of the methodology and assumptions used; (c) ways we could enhance the quality, utility, and clarity of the information to be collected; and (d) ways we could minimize the burden of the collection of the information on the respondents.

Please note that an agency may not conduct or sponsor, and an individual need not respond to, a collection of information unless it displays a valid OMB Control Number.

It is our policy to make all comments available to the public for review at the location listed in the ADDRESSES section. Before including your address, phone number, email address or other personally identifiable information in your comment, you should be aware that your entire comment—including your personal identifying information—may be made publicly available at any time. While you can ask us in your comment to withhold your personal identifying information from public review, we cannot guarantee that we will be able to do so.

III. Data

OMB Control Number: 1076-0136.

Title: Indian Self-Determination and Education Assistance Contracts, 25 CFR part 900.

Brief Description of Collection: An Indian tribe or tribal organization is required to submit this information each time that it proposes to contract with BIA under the ISDEAA. Each response may vary in its length. In addition, each subpart of 25 CFR part 900 concerns different parts of the contracting process. For example, Subpart C relates to provisions of the contents for the initial contract proposal. The respondents do not incur the burden associated with Subpart C when contracts are renewed. Subpart F describes minimum standards for management systems used by Indian tribes or tribal organizations under these contracts. Subpart G addresses the negotiability of all reporting and data requirements in the contracts. Responses are required to obtain or retain a benefit. IHS estimates are not included in this notice, but will be submitted to OMB at a later date by IHS.

Type of Review: Revision of currently approved collection.

Respondents: Federally recognized Indian tribes and tribal organizations.

Number of Respondents: 533.

Estimated Number of Responses: 7,063.

Estimated Time per Response: Varies from 4 to 122 hours, with an average of 38 hours per response.

Frequency of Response: Each time programs, functions, services, or activities are contracted from the BIA under the ISDEAA.

Estimated Total Annual Hour Burden: 127,127.

Dated: May 23, 2013.
Christine Cho,
Acting Assistant Director for Information Resources.

[FR Doc. 2013-12730 Filed 5-28-13; 8:45 am]

BILLING CODE 4310-4J-P